DEPARTMENT OF ENERGY

Federal Energy Regulatory Commission

[Docket No. IC10-582-000]

Commission Information Collection Activities (FERC-582); Comment Request; Extension

July 22, 2010.

AGENCY: Federal Energy Regulatory Commission.

ACTION: Notice of proposed information collection and request for comments.

SUMMARY: In compliance with the requirements of section 3506(c)(2)(A) of the Paperwork Reduction Act of 1995, 44 U.S.C. 3506(c)(2)(A) (2006), (Pub. L. 104-13), the Federal Energy Regulatory Commission (Commission or FERC) is soliciting public comment on the proposed information collection described below.

DATES: Comments in consideration of the collection of information are due 60 days after publication of this Notice in the Federal Register.

ADDRESSES: Comments may be filed either electronically (eFiled) or in paper format, and should refer to Docket No. IC10-582-000. Documents must be prepared in an acceptable filing format and in compliance with Commission submission guidelines at http://www.ferc.gov/help/submission-guide.asp. eFiling instructions are available at: http://www.ferc.gov/docs-filing/efiling.asp. First time users must follow eRegister instructions at: http://www.ferc.gov/docs-filing/eregistration.asp, to establish a user name and password before eFiling. The Commission will send an automatic acknowledgement to the sender's e-mail address upon receipt of eFiled comments. Commenters making an eFiling should not make a paper filing. Commenters that are not able to file electronically must send an original and two (2) paper copies of their comments to: Federal Energy Regulatory Commission, Secretary of the Commission, 888 First Street, NE., Washington, DC 20426.

Users interested in receiving automatic notification of activity in this docket may do so through eSubscription at http://www.ferc.gov/docs-filing/esubscription.asp. In addition, all comments and FERC issuances may be viewed, printed or downloaded remotely through FERC's eLibrary at: http://www.ferc.gov/docs-filing/elibrary.asp, by searching on Docket No. IC10-582. For user assistance, contact FERC Online Support by e-mail at ferconlinesupport@ferc.gov, or by phone at (866) 208-3676 (toll-free), or (202) 502-8659 for TTY.

FOR FURTHER INFORMATION CONTACT: Ellen Brown may be reached by: e-mail at DataClearance@FERC.gov, telephone at (202) 502-8663, and fax at (202) 273-0873.

SUPPLEMENTARY INFORMATION: The information required by FERC-582, (“Electric Fees; Annual Charges; Waivers; and Exemptions;” OMB Control No. 1902-0132) covers the filing requirements in the Code of Federal Regulations (CFR) under Title 18, part 381 ¹ and part 382.²

¹ Title 18 CFR 381.105, 381.106, 381.108, 381.302, and 381.305.

² Title 18 CFR 382.102, 382.103, 382.105, 382.106, and 382.201.

FERC-582 is used by the Commission to implement the statutory provisions of the Independent Offices Appropriation Act of 1952 (IOAA) (31 U.S.C. 9701) which authorizes the Commission to establish fees for its services.³ In addition, the Omnibus Budget Reconciliation Act of 1986 (OBRA) (42 U.S.C. 7178) authorizes the Commission “to assess and collect fees and annual charges in any fiscal year in amounts equal to all the costs incurred by the Commission in that fiscal year.”

³ The most recent “Annual Update of Filing Fees” was issued on 1/20/2010 and is posted at http://elibrary.ferc.gov/idmws/common/opennat.asp?fileID=12249237. Other reporting requirements, associated with the estimation of annual charges or filing fees, are separate from the FERC-582 and not a subject of Docket Number IC10-582 or the FERC-582 clearance request. They are approved separately by OMB and include: (a) FERC-583 (“Annual Kilowatt Generating Report (Annual Charges),” OMB Control Number 1902-0136) for hydropower generation facilities; (b) FERC Form No. 2 (Major Natural Gas Pipeline Annual Report, OMB Control Number 1902-0028), FERC Form No. 2A (Non-Major Natural Gas Pipeline Annual Report, OMB Control Number 1902-0030), and FERC Form No. 6 (Annual Report of Oil Pipeline Companies, OMB Control Number 1902-0022) for estimating charges for natural gas and oil pipelines; and (c) FERC-587 (Land Description: Public Land States/Non-Public Land States (Rectangular or Non Rectangular Survey System Lands in Public Land States); OMB Control Number 1902-0145) for estimating fees associated with the use of Federal lands.

In calculating electric fees and annual charges, the Commission first determines the total costs of its electric regulatory program and then subtracts all electric regulatory program filing fee collections to determine the total collectible electric regulatory program costs. It then uses the data submitted under FERC-582 ⁴ to determine the total megawatt-hours of transmission of electric energy in interstate commerce. This is measured by the sum of the megawatt-hours (MWh) of all unbundled transmission (including MWh delivered in wheeling transactions and MWh delivered in exchange transactions) and the megawatt-hours of all bundled wholesale power sales (to the extent these later megawatt-hours were not separately reported as unbundled transmission).

⁴ FERC-582 Annual Charges Reports are available in FERC's eLibrary system (at http://www.ferc.gov/docs-filing/elibrary.asp), by searching under the document class and type of “Report/Form/Annual Charges Report.”

Public utilities and power marketers subject to these annual charges must submit FERC-582 data to the Commission by April 30 of each year (18 CFR 382.201). The Commission issues bills for annual charges, and public utilities and power marketers then must pay the charges within 45 days of the Commission's issuance of the bill.

Requests for waivers and exemptions of fees and charges (required by 18 CFR Parts 381 and 382) are filed, based on need. The Commission's staff uses the filer's financial information to evaluate the request for a waiver or exemption of the obligation to pay a fee or an annual charge.

Action: The Commission is requesting a three-year extension of the FERC-582 reporting requirements, with no changes.

Burden Statement: The estimated annual burden figures and costs follow.

Information collection | Number of respondents | Average number of reponses per respondent | Average burden hours per response | Total burden hours
| (1) | (2) | (3) | (1)×(2)×(3)
FERC-582 ¹ ² (except 381.302, below) | 73 | 1 | 3 | 219
Exemption/waiver of fee for declaratory order (under 381.302) | 6 | 1 | 2 | 12
Total | 79 | 1 |  | 231

The total estimated annual cost burden to respondents is $15,312 (231 hours/2080 hours ⁵ per year, times $137,874 ⁶).

⁵ An employee works an estimated 2,080 hours per year.

⁶ The estimated average annual cost per employee is $137,874.

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g. permitting electronic submission of responses.

Kimberly D. Bose,
Secretary.

[FR Doc. 2010-18594 Filed 7-28-10; 8:45 am]

BILLING CODE 6717-01-P